DEPARTMENT OF COMMERCE

International Trade Administration

[C-428-829; C-421-809; C-412-821]

Low Enriched Uranium from Germany, the Netherlands, and the United Kingdom: Final Results of Countervailing Duty Administrative Reviews and Revocation of Countervailing Duty Orders

AGENCY: Import Administration, International Trade Administration, Department of Commerce.

SUMMARY: On February 28, 2006, the Department of Commerce (the Department) published in the Federal Register its preliminary results of administrative reviews of the countervailing duty (CVD) orders on low enriched uranium (LEU) from Germany, the Netherlands, and the United Kingdom (UK) for the period January 1, 2004, through December 31, 2004 (see Low Enriched Uranium from Germany, the Netherlands, and the United Kingdom: Preliminary Results of Countervailing Duty Administrative Reviews and Intent to Revoke the Countervailing Duty Orders, 71 FR 10062 (February 28, 2006) (Preliminary Results)). The Department has now completed these administrative reviews in accordance with section 751(a) of the Tariff Act of 1930, as amended (the Act).

Based on information received since the Preliminary Results and our analysis of the comments received, the Department has not revised the net subsidy rate for Urenco Deutschland GmbH of Germany (UD), Urenco Nederland B.V. of the Netherlands (UNL), Urenco (Capenhurst) Limited (UCL) of the UK, Urenco Ltd., Urenco Inc., and Urenco Enrichment Company Ltd. (UEC) (collectively, the Urenco Group or respondents), the producers/exporters of subject merchandise covered by these reviews. For further discussion of our positions, see the “Issues and Decision Memorandum” from Stephen J. Claeys, Deputy Assistant Secretary for Import Administration, to David M. Spooner, Assistant Secretary for Import Administration, concerning “Low Enriched Uranium from Germany, the Netherlands, and the United Kingdom: Final Results of Countervailing Duty Administrative Reviews and Revocation of Countervailing Duty Orders” (Decision Memorandum), dated June 28, 2006. The final net subsidy rate for the reviewed companies is listed below in the section entitled “Final Results of Reviews.”

EFFECTIVE DATE: January 1, 2005.

FOR FURTHER INFORMATION CONTACT: Darla Brown, AD/CVD Operations, Office 3, Import Administration, U.S. Department of Commerce, Room 4012, 14th Street and Constitution Avenue, NW, Washington, DC 20230; telephone: (202) 482-2849.

SUPPLEMENTARY INFORMATION:

Background

On February 28, 2006, the Department published in the Federal Register its Preliminary Results. We invited interested parties to comment on the results. Since the Preliminary Results, the following events have occurred.

On March 30, 2006, we received case briefs from petitioners¹ and respondents. In their case briefs, both petitioners and respondents requested a public hearing, although respondents stated that it was their intention to withdraw their hearing request if no other interested party requested a hearing. On April 4, 2006, we received rebuttal briefs from petitioners, respondents, and the Governments of the Netherlands and the UK (GON and UKG, respectively). On April 25, 2006, petitioners withdrew their request for a hearing. On April 26, 2006, respondents withdrew their request for a hearing.

¹ Petitioners are the United States Enrichment Corporation (USEC) and USEC Inc.

Pursuant to 19 CFR 351.213(b), these reviews cover only those producers or exporters of the subject merchandise for which a review was specifically requested. Accordingly, these reviews cover the Urenco Group. These reviews cover the period January 1, 2004, through December 31, 2004, and four programs.

Scope of the Orders

For purposes of these orders, the product covered is LEU. LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of these orders. Specifically, these orders do not cover enriched uranium hexafluoride with a U²³⁵ assay of 20 percent or greater, also known as highly enriched uranium. In addition, fabricated LEU is not covered by the scope of these orders. For purposes of these orders, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of these orders.

Also excluded from these orders is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designated transporter(s) while in U.S. customs territory, and (ii) are re-exported within eighteen months of entry of the LEU for consumption by the end-user in a nuclear reactor outside the United States. Such entries must be accompanied by the certifications of the importer and end user.

The merchandise subject to these orders is currently classifiable in the Harmonized Tariff Schedule of the United States (HTSUS) at subheading 2844.20.0020. Subject merchandise may also enter under HTSUS subheadings 2844.20.0030, 2844.20.0050, and 2844.40.00. Although the HTSUS subheadings are provided for convenience and customs purposes, the written description of the merchandise is dispositive.

Revocation of the Orders

On February 25, 2005, we received requests for revocation of the CVD orders on LEU from the Government of Germany (GOG), the GON, and the UKG. Their requests were filed in accordance with 19 CFR 351.222(c). The Department may revoke, in whole or in part, a CVD order upon completion of one or more reviews under section 751 of the Act. Although Congress has not specified the procedures that the Department must follow in revoking an order, the Department has developed a procedure for revocation that is described in 19 CFR 351.222, which was amended on September 22, 1999. See Amended Regulation Concerning the Revocation of Antidumping and Countervailing Duty Orders, 64 FR 51236 (September 22, 1999).

Pursuant to 19 CFR 351.222(e)(2)(i), during the third and subsequent annual anniversary months of the publication of the CVD order, the government of the affected country may request in writing that the Department revoke an order under 351.222(c)(1) if the government submits with the request its certification that it has satisfied, during the period of review, the requirements set out in 351.222(c)(1)(i) and that it will not reinstate for the subject merchandise those programs or substitute other countervailable subsidy programs. The GOG, the GON, and the UKG provided the certifications required by 19 CFR 351.222(e)(2)(i).

Upon receipt of such a request, the Department, pursuant to 19 CFR 351.222(c), will consider the following in determining whether to revoke the order: (1) whether the government of the affected country has eliminated all countervailable subsidies on the subject merchandise by abolishing for the subject merchandise, for a period of at least three consecutive years, all programs previously found countervailable; (2) whether exporters and producers of the subject merchandise are continuing to receive any net countervailable subsidy from an abolished program; and (3) whether the continued application of the CVD order is otherwise necessary to offset subsidization.

In our Preliminary Results, we preliminarily determined, in accordance with 19 CFR 351.222(c)(1)(i)(A), that all programs found by the Department to have provided countervailable subsidies on LEU from Germany, the Netherlands, and the UK have been abolished for at least three consecutive years. Moreover, we preliminarily determined that the net countervailable subsidy rate during the POR of the instant reviews is zero, and, therefore, that the exporters and producers are no longer receiving any net countervailable subsidy from the abolished programs within the meaning of 19 CFR 351.222(c)(1)(i)(B). Because we have allocated all non-recurring subsidies over a 10-year AUL, the benefit streams from these agreements were fully allocated at the end of 2002, i.e., prior to the POR of these reviews. Finally, in accordance with 19 CFR 351.222(c)(1)(i)(C), we preliminarily determined that there is no evidence currently on the record of the instant reviews indicating that continuing these CVD orders is necessary to offset subsidization.

Parties have commented on our preliminary intent to revoke these CVD orders. See the Decision Memorandum at Comment 2. However, we have not been persuaded by parties' arguments to deviate from our finding in the Preliminary Results. Therefore, we find, in accordance with 19 CFR 351.222(c)(1)(ii), that the continued application of these CVD orders is no longer warranted, and we are revoking these CVD orders.

Verification

The Department previously verified all of the relevant factual information relied upon in these administrative reviews, consistent with the requirements of the statute and the Department's regulations.

Analysis of Comments Received

All issues raised in the case and rebuttal briefs by parties to these reviews are addressed in the Decision Memorandum, which is hereby adopted by this notice. A list of the issues contained in the Decision Memorandum is attached to this notice as Appendix I. Parties can find a complete discussion of all issues raised in these reviews and the corresponding recommendations in this public memorandum, which is on file in the Central Records Unit (CRU), room B-099 of the main Commerce building. In addition, a complete version of the Decision Memorandum can be accessed directly on the World Wide Web at http://ia.ita.doc.gov/frn. The paper copy and electronic version of the Decision Memorandum are identical in content.

Final Results of Reviews

In accordance with section 777A(e)(1) of the Act and 19 CFR 351.221(b)(5), we calculated an ad valorem subsidy rate for the Urenco Group for calendar year 2004. The total net subsidy rate for the Urenco Group in these reviews is 0.00 percent ad valorem for the POR.

We will instruct U.S. Customs and Border Protection (CBP), within 15 days of publication of the final results of these reviews, to liquidate shipments of low enriched uranium by Urenco from Germany, the Netherlands, and the United Kingdom entered, or withdrawn from warehouse, for consumption from January 1, 2004, through December 31, 2004, without regard to countervailing duties. Moreover, the Department also will instruct CBP to discontinue the suspension of liquidation on all shipments of the subject merchandise entered, or withdrawn from warehouse, for consumption on or after January 1, 2005. In addition, for the period January 1, 2004, through December 31, 2004, the assessment rates applicable to all non-reviewed companies covered by this order are the cash deposit rates in effect at the time of entry.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and this notice are issued and published in accordance with sections 751(a)(1), 751(a)(3) and 777(i)(1) of the Act and 19 CFR 351.221(b)(5).

Dated: June 28, 2006.
David M. Spooner,
Assistant Secretary for Import Administration.

Appendix I - Issues and Decision Memorandum

I. Methodology And Background Information

A. International Consortium

II. Subsidies Valuation Information

A. Allocation Period

B. Revocation of the Orders

III. Analysis Of Programs

A. Programs Determined Not to Confer a Benefit from the Government of Germany

1. Enrichment Technology Research and Development Program

2. Forgiveness of Centrifuge Enrichment Capacity Subsidies

B. Programs Determined Not to Be Used from the Government of the Netherlands

1. Wet Investeringsrekening Law (WIR)

2. Regional Investment Premium

IV. Total Ad Valorem Rate

V. Analysis of Comments

Comment 1: Net Countervailable Subsidy Rate

Comment 2: Revocation of the Orders

Comment 3: Draft Revocation and Liquidation Instructions

Comment 4: Enrichment Services

Comment 5: Allocation Period

Comment 6: Centrifuge Enrichment Capacity Subsidies by the Government of Germany

[FR Doc. E6-10574 Filed 7-6-06; 8:45 am]

BILLING CODE 3510-DS-S